DEPARTMENT OF ENERGY

Federal Energy Regulatory Commission

Notice of Application for Amendment of License and Soliciting Comments, Motions To Intervene, and Protests

November 27, 2001.

Take notice that the following application has been filed with the Commission and is available for public inspection:

a. Application type: Amendment of License.

b. Project no.: 10455-021.

c. Date filed: November 8, 2001.

d. Licensee: JDJ Energy Company.

e. Name of project: River Mountain Pumped Storage Hydroelectric Project.

f. Location: The project is located on Lake Dardanelle on the Arkansas River in Logan County, Arkansas. The project does not occupy any federal lands.

g. Filed pursuant to: Federal Power Act, 16 U.S.C. 791(a)-825(r).

h. Licensee contact: Mr. Donald H. Clarke, Counsel, Law Offices of GKRSE, 1500 K Street NW., Suite 330, Washington, DC 20005; (202) 408-5400.

i. FERC Contact: Any questions on this notice should be addressed to Steve Naugle, steven.naugle@ferc.fed.us, or (202) 219-2805.

j. Deadline for filing comments and or motions: December 13, 2001.

All documents (original and eight copies) should be filed with Mr. David P. Boergers, Secretary, Federal Energy Regulatory Commission, 888 First Street, NE., Washington, DC 20426. Comments, protests and interventions may be filed electronically via the internet in lieu of paper. See, 18 CFR 385.2001(a)(1)(iii) and the instructions on the Commission's Web site under the “e-Filing” link. Please reference the following number, P-10455-021, on any comments or motions filed.

k. Description of proposal: The licensee requests that article 412 of the project license be deleted from the license. License article 412 requires the licensee to file with the Commission, for approval, the proposed terms and conditions of an agreement between the licensee and the Pine Bluff Sand & Gravel Company for lost mineral resources as a result of the project. The licensee asserts that this article imposes additional and unnecessary procedures with respect to the licensee's acquisition of project property.

l. Locations of the application: Copies of this filing are on file with the Commission and are available for public inspection. This filing may also be viewed on the web at http://www.ferc.gov using the “RIMS” link, select “Docket#” and follow the instructions (call 202-208-2222 for assistance).

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-29857 Filed 11-30-01; 8:45 am]

BILLING CODE 6717-01-P